Executive Order 14221 of February 25, 2025

Making America Healthy Again by Empowering Patients With Clear, Accurate, and Actionable Healthcare Pricing Information

By the authority vested in me as President by the Constitution and the laws of the United States of America, it is hereby ordered:

Section 1. Purpose. During my first term, my Administration took historic steps to correct a fundamental wrong within the American healthcare system. For far too long, prices were hidden from patients and employers, with inadequate recourse available to individuals looking to shop for care or obtain pricing information from a healthcare provider in advance of a visit or procedure. These opaque pricing arrangements allowed powerful entities, such as hospitals and insurance companies, to operate with insufficient accountability regarding their pricing practices, resulting in patients, employers, and taxpayers shouldering the burden of inflated healthcare costs.

Pursuant to Executive Order 13877 of June 24, 2019 (Improving Price and Quality Transparency in American Healthcare to Put Patients First), my Administration issued paradigm-shifting regulations to put patients first by requiring hospitals and health plans to deliver meaningful price information to the American people. These regulations require hospitals to maintain a consumer-friendly display of pricing information for up to 300 shoppable services and a machine-readable file with negotiated rates for every single service the hospital provides; health plans to post their negotiated rates with providers as well as their out-of-network payments to providers and the actual prices they or their pharmacy benefit manager pay for prescription drugs; and health plans to maintain a consumer-facing internet tool through which individuals can access price information.

One economic analysis from 2023 estimated the impact of these regulations, if fully implemented, could result in as much as $80 billion in healthcare savings for consumers, employers, and insurers by 2025. Another report from 2024 suggested healthcare price transparency could help employers reduce healthcare costs by 27 percent across 500 common healthcare services. Recent data has found the top 25 percent of most expensive healthcare service prices have dropped by 6.3 percent per year following the initial implementation of price transparency during my first term.

Unfortunately, progress on price transparency at the Federal level has stalled since the end of my first term. Hospitals and health plans were not adequately held to account when their price transparency data was incomplete or not even posted at all. The Biden Administration failed to take sufficient steps to fully enforce my Administration's requirement that would end the opaque nature of drug prices by ensuring health plans publicly post the true prices they pay for prescription drugs.

The American people deserve better. Making America healthy again will require empowering individuals with the best information possible to inform their life and healthcare choices. By building on the historic efforts of my first term, my Administration will make more meaningful price information available to patients to support a more competitive, innovative, affordable, and higher quality healthcare system.

Sec. 2. Policy. It is the policy of the United States to put patients first and ensure they have the information they need to make well-informed healthcare decisions. The Federal Government will continue to promote universal access to clear and accurate healthcare prices and will take all necessary steps to improve existing price transparency requirements; increase enforcement of price transparency requirements; and identify opportunities to further empower patients with meaningful price information, potentially including through the expansion of existing price transparency requirements.

Sec. 3. Fulfilling the Promise of Radical Transparency. The Secretary of the Treasury, the Secretary of Labor, and the Secretary of Health and Human Services shall take all necessary and appropriate action to rapidly implement and enforce the healthcare price transparency regulations issued pursuant to Executive Order 13877, including, within 90 days of the date of this order, action to:

(a) require the disclosure of the actual prices of items and services, not estimates;

(b) issue updated guidance or proposed regulatory action ensuring pricing information is standardized and easily comparable across hospitals and health plans; and

(c) issue guidance or proposed regulatory action updating enforcement policies designed to ensure compliance with the transparent reporting of complete, accurate, and meaningful data.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 25, 2025.

[FR Doc. 2025-03440

Filed 2-27-25; 11:15 am]

Billing code 3395-F4-P